OFFICE OF MANAGEMENT AND BUDGET

Request for Comments on Proposed OMB Circular No. A-108, “Federal Agency Responsibilities for Review, Reporting, and Publication Under the Privacy Act”

AGENCY: Executive Office of the President, Office of Management and Budget.

ACTION: Notice of availability and request for comments.

SUMMARY: The Office of Management and Budget (OMB) is requesting comments on proposed Circular A-108, “Federal Agency Responsibilities for Review, Reporting, and Publication under the Privacy Act.” The proposed Circular is available at http://www.whitehouse.gov/omb/inforeg_infopoltech.

DATES: Comments are requested on the proposed Circular no later than October 28, 2016.

ADDRESSES: All comments should be submitted via http://www.regulations.gov. Please submit comments only and include your name, company name (if any), and cite “Federal Agency Responsibilities for Review, Reporting, and Publication under the Privacy Act” in all correspondence. All comments received will be posted, without change or redaction, to www.regulations.gov, so commenters should not include information they do not wish to be posted (e.g., personal or confidential business information).

FOR FURTHER INFORMATION CONTACT: Jasmeet Seehra, Office of Management and Budget, Office of Information and Regulatory Affairs, at jseehra@omb.eop.gov.

SUPPLEMENTARY INFORMATION: This OMB Circular describes agency responsibilities for implementing the review, reporting, and publication requirements of the Privacy Act of 1974 and related OMB policies. This Circular supplements and clarifies existing OMB guidance, including OMB Circular No. A-130, Managing Information as a Strategic Resource, Privacy Act Implementation: Guidelines and Responsibilities, Implementation of the Privacy Act of 1974: Supplementary Guidance, and Final Guidance Interpreting the Provisions of Public Law 100-503, the Computer Matching and Privacy Protection Act of 1988. All OMB guidance is available on the OMB Web site at https://www.whitehouse.gov/omb/inforeg_infopoltech.

Howard Shelanski,
Administrator, Office of Information and Regulatory Affairs.

[FR Doc. 2016-24239 Filed 10-6-16; 8:45 am]

BILLING CODE P